FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 962. Interested parties may submit comments on an agreement to the Secretary, Federal Maritime Commission, Washington, DC 20573, within 10 days of the date this notice appears in the Federal Register.

Agreement No.: 217-011557-003

Title: Contship/ZIM/ML Space Charter Agreement

Parties:

Contship Med/Gulf Line Ltd.

Zim-Israel Navigation Co., Ltd.

Mexican Line Limited

Synopsis: The proposed Amendment expands the scope of the Agreement to include South Carolina ports.

Agreement No.: 217-011693

Title: FESCO/ANZDL Space Charter Agreement

Parties:

FESCO Ocean Management, Inc.

Australia-New Zealand Direct Line

Synopsis: The proposed Agreement would permit the parties to charter space to one another in the trade between ports on the Pacific Coast of the United States and ports in Australia and New Zealand.

Dated: February 25, 2000.
By Order of the Federal Maritime Commission.
Bryant L. VanBrakle,
Secretary.

[FR Doc. 00-4933 Filed 2-29-00; 8:45 am]

BILLING CODE 6730-01-P